DEPARTMENT OF AGRICULTURE

Animal and Plant Health Inspection Service

7 CFR Parts 300, 301, 302, 305, 318, 319, 322, 330, 340, 351, 352, 353, 354, 360, 371, and 380

9 CFR Part 94

[Docket No. 05-012-2]

Noxious Weed Control and Eradication Act; Revisions to Authority Citations

AGENCY: Animal and Plant Health Inspection Service, USDA.

ACTION: Final rule.

SUMMARY: We are amending the authority citations in title 7, chapter III, and title 9, part 94, to reflect the enactment of the Noxious Weed Control and Eradication Act of 2004 (Pub. L. 108-412, 118 Stat. 2320, 7 U.S.C. 7781-7786), which amended the Plant Protection Act.

EFFECTIVE DATE: October 5, 2005.

FOR FURTHER INFORMATION CONTACT: Dr. Alan V. Tasker, Noxious Weeds Program Coordinator, Invasive Species and Pest Management, PPQ, APHIS, 4700 River Road Unit 134, Riverdale, MD 20737-1237; (301) 734-5225.

SUPPLEMENTARY INFORMATION:

Background

In a final rule published in the Federal Register on September 23, 2005 (70 FR 55705-55706, Docket No. 05-012-1), the Secretary of Agriculture delegated to the Animal and Plant Health Inspection Service (APHIS) the authority to carry out the Noxious Weed Control and Eradication Act of 2004, (Pub. L. 108-412, 118 Stat. 2321, 7 U.S.C. 7781-7786). In that final rule, we also stated our intent to further amend titles 7 and 9 of the Code of Federal Regulations (referred to below as the regulations) in a separate rulemaking action to reflect the Plant Protection Act amendment in our authority citations. This final rule makes those changes to the authority citations.

This rule relates to internal agency management. Therefore, this rule is exempt from the provisions of Executive Order 12866 and 12988. Moreover, pursuant to 5 U.S.C. 553, notice of proposed rulemaking and opportunity for comment are not required for this rule, and it may be made effective less than 30 days after publication in the Federal Register. In addition, under 5 U.S.C. 804, this rule is not subject to congressional review under the Small Business Regulatory Enforcement Fairness Act of 1996, Pub. L. 104-121. Finally, this action is not a rule as defined by 5 U.S.C. 601 et seq., the Regulatory Flexibility Act, and thus is exempt from the provisions of that Act.

List of Subjects

7 CFR Parts 300, 301, 302, 305, 318, 319, 322, 330, 340, 351, 352, 353, 354, 360, 371, and 380

Administrative practice and procedure, Agricultural commodities, Animal diseases, Authority delegations (Government agencies), Bees, Biotechnology, Coffee, Cotton, Cottonseeds, Customs duties and inspection, District of Columbia, Exports, Fruits, Genetic engineering, Government employees, Guam, Hawaii, Honey, Imports, Irradiation, Logs, Nursery stock, Organization and functions (Government agencies), Packaging and containers, Phytosanitary treatment, Plant diseases and pests, Plants (Agriculture), Postal Service, Puerto Rico, Quarantine, Reporting and recordkeeping requirements, Rice, Transportation, Travel and transportation expenses, Vegetables, Virgin Islands, Weeds.

9 CFR Part 94

Animal diseases, Imports, Livestock, Meat and meat products, Milk, Poultry and poultry products, Reporting and recordkeeping requirements.

Accordingly, we are amending 7 CFR parts 300, 301, 302, 305, 318, 319, 322, 330, 340, 351, 352, 353, 354, 360, 371, and 380, and 9 CFR part 94 as follows:

PART 300—INCORPORATION BY REFERENCE

1. The authority citation for part 300 is revised to read as follows:

Authority: 7 U.S.C. 7701-7772 and 7781-7786; 7 CFR 2.22, 2.80, and 371.3.

PART 301—DOMESTIC QUARANTINE NOTICES

2. The authority citation for part 301 is revised to read as follows:

Authority: 7 U.S.C. 7701-7772 and 7781-7786; 7 CFR 2.22, 2.80, and 371.3.

Section 301.75-15 also issued under Sec. 204, Title II, Pub. L. 106-113, 113 Stat. 1501A-293; sections 301.75-15 and 301.75-16 also issued under Sec. 203, Title II, Pub. L. 106-224, 114 Stat. 400 (7 U.S.C. 1421 note).

PART 302—DISTRICT OF COLUMBIA; MOVEMENT OF PLANT AND PLANT PRODUCTS

3. The authority citation for part 302 is revised to read as follows:

Authority: 7 U.S.C. 7701-7772 and 7781-7786; 7 CFR 2.22, 2.80, and 371.3.

PART 305—PHYTOSANITARY TREATMENTS

4. The authority citation for part 305 is revised to read as follows:

Authority: 7 U.S.C. 7701-7772 and 7781-7786; 21 U.S.C. 136 and 136a; 7 CFR 2.22, 2.80, and 371.3.

PART 318—HAWAIIAN AND TERRITORIAL QUARANTINE NOTICES

5. The authority citation for part 318 is revised to read as follows:

Authority: 7 U.S.C. 7701-7772 and 7781-7786; 7 CFR 2.22, 2.80, and 371.3.

PART 319—FOREIGN QUARANTINE NOTICES

6. The authority citation for part 319 is revised to read as follows:

Authority: 7 U.S.C. 450 and 7701-7772 and 7781-7786; 21 U.S.C. 136 and 136a; 7 CFR 2.22, 2.80, and 371.3.

PART 322—BEES, BEEKEEPING BYPRODUCTS, AND BEEKEEPING EQUIPMENT

7. The authority citation for part 322 is revised to read as follows:

Authority: 7 U.S.C. 281; 7 U.S.C. 7701-7772 and 7781-7786; 7 CFR 2.22, 2.80, and 371.3.

PART 330—FEDERAL PLANT PEST REGULATIONS; GENERAL; PLANT PESTS; SOIL, STONE, AND QUARRY PRODUCTS; GARBAGE

8. The authority citation for part 330 is revised to read as follows:

Authority: 7 U.S.C. 450, 7701-7772, 7781-7786, and 8301-8317; 21 U.S.C. 136 and 136a; 31 U.S.C. 9701; 7 CFR 2.22, 2.80, and 371.3.

PART 340—INTRODUCTION OF ORGANISMS AND PRODUCTS ALTERED OR PRODUCED THROUGH GENETIC ENGINEERING WHICH ARE PLANT PESTS OR WHICH THERE IS REASON TO BELIEVE ARE PLANT PESTS

9. The authority citation for part 340 is revised to read as follows:

Authority: 7 U.S.C. 7701-7772 and 7781-7786; 31 U.S.C. 9701; 7 CFR 2.22, 2.80, and 371.3.

PART 351—IMPORTATION OF PLANTS OR PLANT PRODUCTS BY MAIL

10. The authority citation for part 351 is revised to read as follows:

Authority: 7 U.S.C. 7701-7772 and 7781-7786; 7 CFR 2.22, 2.80, and 371.3.

Cross Reference: For customs regulations governing importation of plants and plant products, see 19 CFR part 12.

Authority: 7 U.S.C. 7701-7772 and 7781-7786; 7 CFR 2.22, 2.80, and 371.3.

PART 352—PLANT QUARANTINE SAFEGUARD REGULATIONS

11. The authority citation for part 352 is revised to read as follows:

Authority: 7 U.S.C. 7701-7772 and 7781-7786; 21 U.S.C. 136 and 136a; 31 U.S.C. 9701; 7 CFR 2.22, 2.80, and 371.3.

PART 353—EXPORT CERTIFICATION

12. The authority citation for part 353 is revised to read as follows:

Authority: 7 U.S.C. 7701-7772 and 7781-7786; 21 U.S.C. 136 and 136a; 7 CFR 2.22, 2.80, and 371.3.

PART 354—OVERTIME SERVICES RELATED TO IMPORTS AND EXPORTS; AND USER FEES

13. The authority citation for part 354 is revised to read as follows:

Authority: 7 U.S.C. 7701-7772, 7781-7786, and 8301-8317; 21 U.S.C. 136 and 136a; 49 U.S.C. 80503; 7 CFR 2.22, 2.80, and 371.3.

PART 360—NOXIOUS WEED REGULATIONS

14. The authority citation for part 360 is revised to read as follows:

Authority: 7 U.S.C. 7701-7772 and 7781-7786; 7 CFR 2.22, 2.80, and 371.3.

PART 371—ORGANIZATION, FUNCTIONS, AND DELEGATIONS OF AUTHORITY

15. The authority citation for part 371 continues to read as follows:

Authority: 5 U.S.C. 301.

16. In § 371.3, paragraph (b)(2)(x) is amended by removing the citation “7 U.S.C. 7701-7772” and adding the citation “7 U.S.C. 7701-7772 and 7781-7786” in its place.

PART 380—RULES OF PRACTICE GOVERNING PROCEEDINGS UNDER CERTAIN ACTS

17. The authority citation for part 380 is revised to read as follows:

Authority: 7 U.S.C. 7701-7772 and 7781-7786; 16 U.S.C. 1540(a), 3373(a) and (b); 7 CFR 2.22, 2.80, and 371.3.

PART 94—RINDERPEST, FOOT-AND-MOUTH DISEASE, FOWL PEST (FOWL PLAGUE), EXOTIC NEWCASTLE DISEASE, AFRICAN SWINE FEVER, CLASSICAL SWINE FEVER, AND BOVINE SPONGIFORM ENCEPHALOPATHY: PROHIBITED AND RESTRICTED IMPORTATIONS

18. The authority citation for part 94 is revised to read as follows:

Authority: 7 U.S.C. 450, 7701-7772, 7781-7786, and 8301-8317; 21 U.S.C. 136 and 136a; 31 U.S.C. 9701; 7 CFR 2.22, 2.80, and 371.4.

Done in Washington, DC, this 29th day of September 2005.
Elizabeth E. Gaston,
Acting Administrator, Animal and Plant Health Inspection Service.

[FR Doc. 05-19945 Filed 10-4-05; 8:45 am]

BILLING CODE 3410-34-P